DEPARTMENT OF JUSTICE

Notice of Lodging of Consent Decree Under Comprehensive Environmental Response, Compensation and Liability Act

Under 28 CFR 50.7, notice is hereby given that on December 15, 2003, a proposed Consent Decree in United States v. Stepan Company, Civil Action No. 03-5897, was lodged with the United States District Court for the District of New Jersey.

In this action, the United States asserted claims against Stepan Company: (1) Under Section 106(b)(1) of the Comprehensive Environmental Response, Compensation and Liability Act (CERCLA), 42 U.S.C. 9606(b)(1), for civil penalties for Stepan's failure to comply with an administrative order issued by EPA requiring the performance of a soil investigation at the D'Imperio Property Superfund Site in Hamilton Township, New Jersey (Site) and (2) under Section 107(a) of CERCLA, 42 U.S.C. 9607(a), for recovery of response costs incurred regarding the Site. The proposed consent decree embodies an agreement with Stepan to pay a $30,000 civil penalty and $35,000 of response costs. The decree provides Stepan with a covenant not to sue under Sections 106(b)(1) and 107(a) of CERCLA.

The Department of Justice will receive for a period of thirty (30) days from the date of this publication comments relating to the Consent Decree. Comments should be addressed to the Assistant Attorney General, Environmental and Natural Resources Division, P.O. Box 7611, U.S. Department of Justice, Washington, DC 20044-7611, and should refer to United States v. Stepan Company, D.J. No. 90-11-3-942/1.

The Consent Decree may be examined at the Office of the United States Attorney, United States Courthouse, Rm. 2070, 4th & Cooper Streets, Camden, NJ 08101, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury.

Ronald G. Gluck,
Assistant Section Chief, Environmental Enforcement Section, Environment and Natural Resources Division.

[FR Doc. 04-336 Filed 1-6-04; 8:45 am]

BILLING CODE 4410-15-M